DEPARTMENT OF THE INTERIOR

Fish and Wildlife Service

[FWS-R4-ES-2020-N007; FXES11130400000EA-123-FF04EF1000]

Receipt of Incidental Take Permit Application and Proposed Habitat Conservation Plan for the Perdido Key Beach Mouse, Baldwin County, AL; Categorical Exclusion

AGENCY: Fish and Wildlife Service, Interior.

ACTION: Notice of availability; request for comment and information.

SUMMARY: We, the Fish and Wildlife Service (Service), announce receipt of an application from the city of Orange Beach (applicant) for an incidental take permit (ITP) under the Endangered Species Act. The applicant requests the ITP to take the federally listed Perdido Key beach mouse incidental to construction in Baldwin County, Alabama. We request public comment on the application, which includes the applicant's proposed habitat conservation plan (HCP), and the Service's preliminary determination that this HCP qualifies as “low-effect,” categorically excluded under the National Environmental Policy Act. To make this determination, we used our low-effect screening form, which is also available for public review.

DATES: We must receive your written comments on or before February 18, 2020.

ADDRESSES:

Obtaining Documents: Documents are available for public inspection by appointment during regular business hours at either of the following locations:

• Atlanta Regional Office, Ecological Services, U.S. Fish and Wildlife Service, 1875 Century Boulevard, Atlanta, GA 30345.

• Panama City Ecological Services Field Office, U.S. Fish and Wildlife Service, 1601 Balboa Ave., Panama City, Florida.

Submitting Comments: If you wish to submit comments on any of the documents, you may do so by any one of the following methods. Please reference TE48931D-0 in all comments. For additional guidance on submitting comments, please see Public Comments under SUPPLEMENTARY INFORMATION.

• U.S. mail: You may mail comments to the Fish and Wildlife Service's Atlanta Regional Office.

• Hand-delivery: You may hand-deliver comments to the Atlanta or the Florida offices.

• Email: You may email comments to Christine_Willis@fws.gov. Please include your name and email address in your message. If you do not receive an email confirmation from us that we have received your email message, contact us directly at either telephone number in FOR FURTHER INFORMATION CONTACT.

FOR FURTHER INFORMATION CONTACT: Christine Willis, Assistant Regional HCP Coordinator, at the Atlanta Regional Office (see ADDRESSES) or by telephone at 404-679-7310 or Kristi Yanchis, Project Manager, at the Panama City Ecological Services Field Office (see ADDRESSES) or by telephone at 850-769-0552. If you use a telecommunications device for the deaf (TDD), please call the Federal Relay Service at 800-877-8339.

SUPPLEMENTARY INFORMATION: We, the Fish and Wildlife Service, announce receipt of an application from the city of Orange Beach, Alabama (applicant), for an incidental take permit (ITP) under the Endangered Species Act of 1973, as amended (ESA; 16 U.S.C. 1531 et seq.). The applicant requests the ITP to take the federally listed Perdido Key beach mouse (Peromyscus polionotus trissyllepsis; PKBM), incidental to construction in occupied PKBM habitat in Baldwin County, Alabama. We request public comment on the application, which includes the applicant's proposed habitat conservation plan (HCP) and the Service's preliminary determination that this HCP qualifies as “low-effect,” categorically excluded, under the National Environmental Policy Act (NEPA; 42 U.S.C. 4231 et seq.). To make this determination, we used our environmental action statement and low-effect screening form, both of which are available for public review.

Project

The applicant requests a 30-year ITP to take PKBM via the conversion of approximately 36.87 acres (ac) of occupied PKBM habitat on 73.74-ac parcel incidental to construction. The 73.74-ac parcel also contains 32.97 ac of PKBM critical habitat. The city of Orange Beach HCP (TE48931D) proposes minimization measures that are consistent with the previously approved Escambia County Perdido Key HCP permit (TE46592A) including proactive planning, conservation corridors, seasonality considerations, predator control, trash collection, dune restoration, wildlife lighting, vehicle access management, and public education. To mitigate for unavoidable impacts, contributions will be made to an in-lieu fee mitigation fund, and annual assessment fees will be paid into a PKBM fund.

Public Availability of Comments

Before including your address, phone number, email address, or other personal identifying information in your comment, be aware that your entire comment, including your personal identifying information, may be made available to the public. While you may request that we withhold your personal identifying information, we cannot guarantee that we will be able to do so.

Our Preliminary Determination

The Service has made a preliminary determination that the applicant's program, including land clearing, infrastructure building, landscaping, and proposed minimization and mitigation measures, would individually and cumulatively have a minor or negligible effect on the PKBM and the environment. Therefore, we have preliminarily concluded that the requested ITP would qualify for categorical exclusion and the HCP is low effect under our NEPA regulations at 43 CFR 46.205 and 46.210. A low-effect HCP is one that would result in (1) minor or negligible effects on federally listed, proposed, and candidate species and their habitats; (2) minor or negligible effects on other environmental values or resources; and, (3) impacts that, when considered together with the impacts of other past, present, and reasonably foreseeable similarly situated projects, would not over time result in significant cumulative effects to environmental values or resources.

Next Steps

The Service will evaluate the application and the comments to determine whether to issue the requested permit. We will also conduct an intra-Service consultation pursuant to section 7 of the ESA to evaluate the effects of the proposed take. After considering the above findings, we will determine whether the permit issuance criteria of section 10(a)(l)(B) of the ESA have been met. If met, the Service will issue ITP number TE48931D to the city of Orange Beach.

Authority

The Service provides this notice under section 10(c) (16 U.S.C. 1539(c)) of the ESA and NEPA regulation 40 CFR 1506.6.

Sean Blomquist,
Acting Field Supervisor, Panama City Field Office.

[FR Doc. 2020-00680 Filed 1-16-20; 8:45 am]

BILLING CODE 4333-15-P